INTERNATIONAL TRADE COMMISSION

[USITC SE-11-003]

Sunshine Act Meeting Notice

ACTION: Change of date of Government in the Sunshine Meeting.

AGENCY HOLDING THE MEETING: United States International Trade Commission.

ORIGINAL DATE AND TIME: February 9, 2011 at 11 a.m.

NEW DATE AND TIME: February 10, 2011 at 11 a.m.

PLACE: Room 101, 500 E Street, SW., Washington, DC 20436. Telephone: (202) 205-2000.

In accordance with 19 CFR 201.35(d)(1), the Commission has determined to change the date for the meeting which was scheduled for February 9, 2011 at 11 a.m. to February 10, 2011 at 11 a.m. to vote on Inv. Nos. 731-TA-1071 and 1072 (Review) (Magnesium from China and Russia). Earlier announcement of this change was not possible.

Issued: February 7, 2011.
By order of the Commission.
William R. Bishop,
Hearings and Meeting Coordinator.

[FR Doc. 2011-3033 Filed 2-8-11; 11:15 am]

BILLING CODE 7020-02-P